DEFENSE NUCLEAR FACILITIES SAFETY BOARD

Notice of Public Hearing

AGENCY: Defense Nuclear Facilities Safety Board.

ACTION: Notice of public hearing.

SUMMARY: Notice is hereby given that the Defense Nuclear Facilities Safety Board (DNFSB) will hold a Public Hearing regarding safety management of waste storage and processing in the defense nuclear facilities complex. Following recent incidents at Idaho National Laboratory (INL), the purpose of this Public Hearing is to gather information and discuss Department of Energy (DOE) actions to strengthen the safety posture of solid nuclear waste operations.

DATES: The Public Hearing will be held on June 20, 2019, from 12:00 p.m. to 4:00 p.m.

ADDRESSES: The Public Hearing will be conducted at 625 Indiana Ave. NW, Room 352, Washington, DC 20004.

FOR FURTHER INFORMATION CONTACT: Glenn Sklar, General Manager, Defense Nuclear Facilities Safety Board, 625 Indiana Avenue NW, Suite 700, Washington, DC 20004-2901, (800) 788-4016. This is a toll-free number.

SUPPLEMENTARY INFORMATION: This Public Hearing will be composed of three sessions. In Session 1, Board Members and DOE officials will discuss DOE actions to strengthen the safety posture of solid nuclear waste operations, including: Understanding the radiological release events at the Waste Isolation Pilot Plant and INL, addressing deficiencies in DOE Standard 5506-2017, understanding the effectiveness of corrective action programs and application of lessons learned across the defense nuclear facilities complex, and strengthening federal subject matter expertise. In Session 1, the Board Members will hear testimony from the Principal Deputy Assistant Secretary for the Office of Environmental Management (EM), the Associate Principle Deputy Assistant Secretary for Field Operations in EM, the Deputy Assistant Secretary for Safety, Security, and Quality Assurance in EM, and the Principal Deputy Associate Administrator for Safety, Infrastructure, and Operations in the National Nuclear Security Administration (NNSA).

In Session 2, Board Members will gather information on safety controls to assess the vulnerabilities associated with handling and processing of solid nuclear wastes at defense nuclear facilities, including: Preventing undesired chemical reactions, layers of safety controls, identifying and implementing corrective actions, and future operations. In Session 2, the Board Members will hear testimony from the Associate Principal Deputy Assistant Secretary for Field Operations in EM, the Deputy Assistant Secretary for Safety, Security, and Quality Assurance in EM, the Principal Deputy Associate Administrator for Safety, Infrastructure and Operations in NNSA, and the Deputy Manager for Idaho Cleanup Project in EM.

In Session 1 and Session 2, the DNFSB Technical Director will offer testimony presenting the perspective of the DNFSB Staff.

In Session 3, Board Members will hear testimony from interested members of the public. Persons interested in speaking during Session 3 period are encouraged to pre-register by submitting a request in writing to the Board's address listed above, emailing hearing@dnfsb.gov, or calling the Office of the General Counsel at (202) 694-7000 or (800) 788-4016 prior to close of business on June 18, 2019. The Board asks that commenters describe the nature and scope of their oral presentations. Those who pre-register will be scheduled to speak first. Individual oral comments may be limited by the time available, depending on the number of persons who register.

At the beginning of the hearing, the Board will post a list of speakers at the entrance to the hearing room. Anyone who wishes to comment or provide technical information or data may do so in writing, either in lieu of, or in addition to, making an oral presentation. The Board Members may question presenters to the extent deemed appropriate. Written comments and documents will be accepted at the hearing or may be sent to the Board's Washington, DC office. The Board will hold the hearing record open until July 20, 2019, for the receipt of additional materials. Additional details, including the detailed agenda for the hearing, are available at https://www.dnfsb.gov.

The hearing will be presented live through internet video streaming. A link to the presentation will be available on the Board's website, and a recording will be posted soon after. A transcript of these sessions and the associated correspondence will be made available on the Board's website. The Board specifically reserves its right to further schedule and otherwise regulate the course of the hearing, to recess, reconvene, postpone, or adjourn the hearing, conduct further reviews, and otherwise exercise its authority under the Atomic Energy Act of 1954, as amended.

(Authority: 42 U.S.C. 2286b(a))

Dated: June 11, 2019.
Bruce Hamilton,
Chairman.

[FR Doc. 2019-12700 Filed 6-14-19; 8:45 am]

BILLING CODE 3670-01-P